DEPARTMENT OF AGRICULTURE

Farm Service Agency

7 CFR Parts 761, 762, 763, 764, 765, 766, 767, 768, and 769

RIN 0560-AF60

Regulatory Streamlining of the Farm Service Agency's Direct Farm Loan Programs

AGENCY: Farm Service Agency, USDA.

ACTION: Proposed rule: reopening and extension of comment period.

SUMMARY: The Farm Service Agency (FSA) is reopening and extending the comment period for the proposed rulemaking, Regulatory Streamlining of the Farm Service Agency's Direct Farm Loan Programs. The original comment period for the proposed rule closed on April 9, 2004, and FSA is reopening and extending it for 15 days from the date of this notice. FSA also will consider any comments received from April 9, 2004, to the date of this notice. This action responds to requests from the public to provide more time to comment on the proposed rule.

DATES: Comments must be submitted by May 4, 2004 to be assured consideration. Comments received after that date will be considered to the extent practical.

ADDRESSES: FSA invites interested persons to submit comments. Comments may be submitted by any of the following methods:

• E-mail: Send comments to bill_cobb@wdc.usda.gov.

• Fax: Submit comments by facsimile transmission to 202-690-3573.

• Mail: Send comments to: Deputy Administrator for Farm Loan Programs, USDA/FSA/DAFLP/STOP 0520, 1400 Independence Avenue SW., Washington, DC 20250-0520.

• Hand Delivery or Courier: Deliver comments to: Deputy Administrator for Farm Loan Programs, Room 3605 South Building, 1400 Independence Avenue SW., Washington, DC 20250.

• Federal eRulemaking Portal: Go to http://www.regulations.gov. Follow the online instructions for submitting comments.

• Persons with disabilities who require alternative means for communication for regulatory information (Braille, large print, audiotape, etc.) should contact USDA's TARGET Center at (202) 720-2600 (voice and TDD).

Comments may be inspected in the Office of the Deputy Administrator for Farm Loan Programs, FSA, USDA, Room 3605 South Building, 1400 Independence Ave., SW., Washington, DC between 8 a.m. and 4:30 p.m., Monday through Friday, except holidays.

SUPPLEMENTARY INFORMATION: On February 9, 2004, FSA published a proposed rule, Regulatory Streamlining of the Farm Service Agency's Direct Farm Loan Programs, in the Federal Register (69 FR 6055). The rule proposed to streamline regulations covering the direct Farm Loan Programs by reorganizing loan making and loan servicing policies and removing internal and administrative procedures. In addition, the rule proposed to move the direct loan regulations from Chapter XVIII of Title VII of the Code of Federal Regulations to Chapter VII of Title VII. Finally, the rule proposed to revise loan making and servicing policies within the confines of the existing statutory authority.

The Agency believes that the request for additional time to comment on the proposed rule is reasonable and will still allow the rulemaking to proceed in a timely manner. As a result of the reopening and extension, the comment period for the proposed rule will close on May 4, 2004.

Signed in Washington, DC, April 12, 2004.
Verle E. Lanier,
Acting Administrator, Farm Service Agency.

[FR Doc. 04-8772 Filed 4-16-04; 8:45 am]

BILLING CODE 3410-05-P